DEPARTMENT OF ENERGY

Federal Energy Regulatory Commission

[ Docket No. ER05-6-001, et al.; Docket No. EL04-135-003, et al.; Docket No. EL02-111-020, et al.; Docket Nos. EL03-212-017, et al.]

Midwest Independent Transmission System Operator, Inc.; PJM Interconnection, LLC, et al.; Ameren Services Company, et al.; Notice of Determination by the Chairman

February 3, 2006.

Take notice that Joseph Kelliher, acting as Motions Commissioner, pursuant to Rule 715 of the Commission's Rules of Practice and Procedure, has determined that Green Mountain Energy Company has failed to demonstrate extraordinary circumstances in accordance with Rule 715(c)(5) of the Commission's Rules of Practice and Procedure that would make prompt Commission review of the contested rulings necessary to prevent detriment to the public interest or irreparable harm to any person. Accordingly, the Chairman will not refer to the full Commission the January 27, 2006 interlocutory appeal filed by Green Mountain Energy Company.

Magalie R. Salas,
Secretary.

[FR Doc. E6-1853 Filed 2-9-06; 8:45 am]

BILLING CODE 6717-01-P